DEPARTMENT OF COMMERCE

National Oceanic and Atmospheric Administration

RIN 0648-XG579

North Pacific Fishery Management Council; Public Meeting

AGENCY: National Marine Fisheries Service (NMFS), National Oceanic and Atmospheric Administration (NOAA), Commerce.

ACTION: Notice of public meeting.

SUMMARY: The North Pacific Fishery Management Council (Council) Electronic Monitoring Committee will meet November 19, 2018 through November 20, 2018.

DATES: The meeting will be held on Monday, November 19, 2018, from 12 p.m. to 5:30 p.m. and on Tuesday, November 20, 2018, from 8:30 a.m. to 5:30 p.m. (or as necessary), Pacific Standard Time.

ADDRESSES:

Meeting address: The meeting will be held at the International Pacific Halibut Coalition Offices, 2320 West Commodore Way, Seattle, WA 98199. Teleconference number: (877) 733-2599, Conference ID: 282264.

Council address: North Pacific Fishery Management Council, 605 W 4th Ave., Suite 306, Anchorage, AK 99501-2252; telephone: (907) 271-2809.

FOR FURTHER INFORMATION CONTACT: Elizabeth Figus, Council staff; telephone: (907) 271-2809.

SUPPLEMENTARY INFORMATION:

Agenda

Monday, November 19, 2018 to Tuesday, November 20, 2018

The agenda will include: Updates since the last meeting in August 2018; staff presentations about the updated Alaska Regional Electronic Technologies Implementation Plan, biological sampling needs, electronic monitoring in other regions, and automation; reviewing a white paper on retention, a data streams draft document, and research plans for tender issues in the western Gulf of Alaska; discussing funding opportunities; finalizing a cooperative research plan document; and, scheduling and other issues.

The Agenda is subject to change, and the latest version will be posted at www.npfmc.org prior to the meeting, along with meeting materials.

Public Comment

Public comment letters will be accepted and should be submitted either electronically to Elizabeth Figus, Council staff: Elizabeth.figus@noaa.gov or through the mail: North Pacific Fishery Management Council, 605 W 4th Ave., Suite 306, Anchorage, AK 99501-2252. In-person oral public testimony will be accepted at the discretion of the chair.

Special Accommodations

These meetings are physically accessible to people with disabilities. Requests for sign language interpretation or other auxiliary aids should be directed to Shannon Gleason at (907) 271-2809 at least 7 working days prior to the meeting date.

Dated: October 30, 2018.
Tracey L. Thompson,
Acting Deputy Director, Office of Sustainable Fisheries, National Marine Fisheries Service.

[FR Doc. 2018-23979 Filed 11-1-18; 8:45 am]

BILLING CODE 3510-22-P